NUCLEAR REGULATORY COMMISSION

[Docket Nos. 30-5980 and 30-5982; ASLBP No. 04-833-07-MLA]

Safety Light Corporation; Notice of Reconstitution

Pursuant to 10 CFR 2.321, the Atomic Safety and Licensing Board in the above captioned Safety Light Corporation proceeding is hereby reconstituted by appointing Administrative Judge Alan S. Rosenthal in place of Administrative Judge Ann M. Young.

In accordance with 10 CFR 2.302, henceforth all correspondence, documents, and other material relating to any matter in this proceeding over which this Licensing Board has jurisdiction should be served on Administrative Judge Rosenthal as follows: Administrative Judge Alan S. Rosenthal, Atomic Safety and Licensing Board Panel, U.S. Nuclear Regulatory Commission,Washington, DC 20555-0001.

Issued at Rockville, Maryland, this 25th day of January 2005.
G. Paul Bollwerk, III,
Chief Administrative Judge, Atomic Safety and Licensing Board Panel.

[FR Doc. 05-1687 Filed 1-28-05; 8:45 am]

BILLING CODE 7590-01-P